DEPARTMENT OF HEALTH AND HUMAN SERVICES

Substance Abuse and Mental Health Services Administration

Notice of Meeting

Pursuant to Public Law 92-463, notice is hereby given of the combined meeting on August 27, 2015, of the Substance Abuse and Mental Health Services Administration's (SAMHSA) four National Advisory Councils (the SAMHSA National Advisory Council [NAC], the Center for Mental Health Services NAC, the Center for Substance Abuse Prevention NAC, the Center for Substance Abuse Treatment NAC) and the two SAMHSA Advisory Committees (Advisory Committee for Women's Services [ACWS] and the Tribal Technical Advisory Committee [TTAC]).

SAMHSA's National Advisory Councils were established to advise the Secretary, Department of Health and Human Services (HHS); the Administrator, SAMHSA; and SAMHSA's Center Directors concerning matters relating to the activities carried out by and through the Centers and the policies respecting such activities.

Under section 501 of the Public Health Service Act, the ACWS is statutorily mandated to advise the SAMHSA Administrator and the Associate Administrator for Women's Services on appropriate activities to be undertaken by SAMHSA and its Centers with respect to women's substance abuse and mental health services.

Pursuant to Presidential E.O. No. 13175, November 6, 2000, and the Presidential Memorandum of September 23, 2004, SAMHSA established the TTAC for working with Federally-recognized Tribes to enhance the government-to-government relationship, honor Federal trust responsibilities and obligations to Tribes and American Indian and Alaska Natives. The SAMHSA TTAC serves as an advisory body to SAMHSA.

The August 27, 2015, combined meeting will include a report from the SAMHSA Administrator, discussion regarding SAMHSA's role in public health crises response, a presentation and panel discussion on the National Registry of Evidence-Based Programs and Practices (NREPP), and discussion regarding the Office of the Chief Medical Officer (OCMO).

The meeting is open to the public and will be held at the SAMHSA building, 1 Choke Cherry Road, Rockville, MD 20857. Attendance by the public will be limited to space available. Interested persons may present data, information, or views orally or in writing, on issues pending before the Council. Written submissions should be forwarded to the contact person on or before August 17, 2015. Oral presentations from the public will be scheduled at the conclusion of the meeting. Individuals interested in making oral presentations are encouraged to notify the contact on or before August 17, 2015. Five minutes will be allotted for each presentation.

The meeting may be accessed via telephone and web conferencing will be available. To attend on site; obtain the call-in number, access code, and/or web access link; submit written or brief oral comments; or request special accommodations for persons with disabilities, please register on-line at: http://nac.samhsa.gov/Registration/meetingsRegistration.aspx, or communicate with SAMHSA's Committee Management Officer, CDR Carlos Castillo (see contact information below).

Meeting information and a roster of Council members may be obtained either by accessing the SAMHSA Council's Web site at http://www.samhsa.gov/about-us/advisory-councils/ or by contacting CDR Castillo. Substantive program information may be obtained after the meeting by accessing the SAMHSA Council's Web site, http://nac.samhsa.gov/, or by contacting CDR Castillo.

Council Names: Substance Abuse and Mental Health Services Administration National Advisory Council; Center for Mental Health Services National Advisory Council; Center for Substance Abuse Prevention National Advisory Council; Center for Substance Abuse Treatment National Advisory Council; SAMHSA's Advisory Committee for Women's Services; SAMHSA Tribal Technical Advisory Committee.

Date/Time/Type: August 27, 2015, 8:30 a.m. to 3:45 p.m. EDT, Open.

Place: SAMHSA Building, 1 Choke Cherry Road, Rockville, Maryland 20857.

Contact: CDR Carlos Castillo, Committee Management Officer and Designated Federal Officer, SAMHSA National Advisory Council, 1 Choke Cherry Road, Rockville, Maryland 20857 (mail), Telephone: (240) 276-2787, Fax: (240) 276-2252, Email: carlos.castillo@samhsa.hhs.gov.

Janine Denis Cook,
Chemist, SAMHSA.

[FR Doc. 2015-18783 Filed 7-30-15; 8:45 am]

BILLING CODE 4162-20-P